DEPARTMENT OF TRANSPORTATION

Federal Highway Administration

Environmental Impact Statement: Sanders and Flathead Counties, MT

AGENCY: Federal Highway Administration (FHWA); Department of Transportation.

ACTION: Notice of intent.

SUMMARY: The FHWA is issuing this notice to advise the public that an environmental impact statement will be prepared for a proposed highway improvement project on the Thompson River Road (Forest Highway 56), which is a county road near Thompson Falls, Montana.

FOR FURTHER INFORMATION CONTACT: Joel Petersen, Project Manager or Terri Thomas, Environmental Specialist, Federal Highway Administration, 610 Fifth Street, Vancouver, Washington 98661. Telephone: (360) 619-7700 E-mail: Terri, Thomas@fhwa.dot.gov.

SUPPLEMENTARY INFORMATION: The FHWA, in cooperation with the U.S. Forest Service (FS) and the Montana Department of Transportation (MDT), will prepare an Environmental Impact Statement (EIS) on a proposal to improve the Thompson River Road on the Lolo National Forest from the junction with Montana State Road (SR) 200, four miles east of the town of Thompson Falls, to the junction with US Highway 2, approximately 40 miles west of Kalispell, MT. The project would provide safe, convenient, and efficient travel to and through national forest lands for current and future users. Besides improving access to national forest resources and recreational opportunities and to the Thompson River corridor within private timber lands, the improved road would correct current water quality problems caused by existing gravel roads. The project includes upgrading approximately 43 miles of road and eliminating many miles of nearby private and public gravel roads within the corridor.

Alternatives for improving travel on this road corridor are being developed. Besides the “no build” alternative, two or more build alternatives are being considered. These are more concepts than specifics, but they consist of:

1. Minor widening, straightening, and rehabilitation of the existing Thompson River Road to achieve a consistent, but minimal two-lane gravel road. Bridges would be widened or replaced to accommodate double lanes. Moderate sediment reduction to the nearby river would be achieved, but some maintenance and instability issues would remain.

2. The road would be widened, straightened, reconstructed and paved to meet national “collector” road standards. Major segments of the road would be realigned to follow the already improved private roads in the area. Miles of existing gravel road would be obliterated and substantial water quality improvements would be realized.

3. Other combinations of upgrading segments of the Thompson River Road and connecting them to improved portions of nearby private roads will be considered.

The Thompson River Road corridor passes through important forested areas that are habitat to various wildlife and fish species including Federally listed threatened and endangered species such as the gray wolf, grizzly bear, Canada lynx and Bull Trout. In addition, the area is of cultural importance for Native Americans. Special studies will be conducted to ensure any impacts to these resources are kept to a minimum.

Announcements describing the proposed action and soliciting comments will be sent to the appropriate Federal, state and local agencies. Announcements will also be sent to private organizations and citizens who have previously expressed or are known to have interest in this proposal. Public scoping meetings will be held in the spring of 2003 in the communities of Thompson Falls and Libby, Montana. Public notices will be issued to provide the times and places of these meetings.

It is important that the full range of issues related to this proposed action be addressed and that all significant issues be identified. Therefore, comments and suggestions are invited from all interested parties. Comments or questions concerning this proposed action and the EIS should be directed to the FHWA at the address and phone number provided above. (Catalog of Federal Domestic Assistance Program Number 20.205, Highway Research, Planning and Construction. The regulations implementing Executive Order 12372 regarding intergovernmental consultation on Federal programs and activities apply to this program.)

Dated: Issued on: November 4, 2002.
Ronald Carmichael,
Division Engineer, Western Federal Lands Highway Division, Vancouver, Washington.

[FR Doc. 02-30978 Filed 12-6-02; 8:45 am]

BILLING CODE 4910-22-M